DEPARTMENT OF COMMERCE

National Oceanic and Atmospheric Administration

[I.D. 052404C]

New England Fishery Management Council; Public Hearings

AGENCY: National Marine Fisheries Service (NMFS), National Oceanic and Atmospheric Administration (NOAA), Commerce.

ACTION: Notice of public hearings on Amendment 2 to the Monkfish Fishery Management Plan; request for comments.

SUMMARY: The monkfish fishery is jointly managed by the New England and Mid-Atlantic Fishery Management Councils (Councils). The Councils will hold a series of public hearings to solicit comments on proposals to be included in Amendment 2 to the Monkfish Fishery Management Plan (FMP).

DATES: Written comments on the proposals will be accepted through July 28, 2004. The public hearings will begin Tuesday, June 15, 2004, and end on June 24, 2004. See SUPPLEMENTARY INFORMATION for meeting dates, times, and locations.

ADDRESSES: To obtain copies of the public hearing document or to submit paper, disk, or CD-ROM comments, contact Paul J. Howard, Executive Director, New England Fishery Management Council, 50 Water Street, Mill 2, Newburyport, MA 01950. Written comments should be marked as “Comment on Monkfish Amendment 2.” Comments may also be sent via facsimile (fax) to (978) 465-0492. The Councils will take scoping comments at six public meetings to be held in New York, New Jersey, North Carolina, Massachusetts and Maine. For specific locations, see SUPPLEMENTARY INFORMATION. Requests for special accommodations should be addressed to the New England Fishery Management Council, 50 Water Street, Mill 2, Newburyport, MA 01950; telephone: (978) 465-0492.

FOR FURTHER INFORMATION CONTACT: Paul J. Howard, (978) 465-0492.

SUPPLEMENTARY INFORMATION: The Councils propose to take action to address the requirements of the Magnuson-Stevens Fishery Conservation and Management Act (Magnuson-Stevens Act), as amended by the Sustainable Fisheries Act of 1996, as well as a number of issues concerning the management of the monkfish fishery identified in public scoping. The Councils will consider comments from fishermen, interested parties, and the general public on the proposals and alternatives described in the public hearing document for Amendment 2 to the Monkfish FMP. Once the Councils have considered public comments, they will approve final management measures and prepare a submission package for formal submission to NMFS for Secretarial review. There will be additional opportunities for public comment for Amendment 2. A Notice of Availability (NOA) for the Draft Supplemental Environmental Impact Statement (DSEIS) was published in the Federal Register on April 30, 2004, announcing the availability of the DSEIS for comment. Comments on the DSEIS must be received by the New England Council by July 28, 2004. In addition, an NOA and a proposed rule for Amendment 2 will be published in the Federal Register for comment at a later date.

The goals of Amendment 2 are to: (1) Prevent overfishing and rebuild overfished stocks as necessary; (2) address problems created by implementation of the FMP; (3) promote improved data collection and research on monkfish; (4) comply with the Council on Environmental Quality Guidelines to update environmental documents; (5) address deficiencies in meeting Magnuson-Stevens Act requirements; (6) address protected species/fishery interactions; and (7) reduce FMP complexity where possible. The Councils are considering a wide range of possible actions, including alternatives that would: modify the days-at-sea (DAS) management program; adjust the monkfish incidental catch limit in several fisheries; increase the minimum mesh size and configuration of monkfish trawl nets; change or eliminate the minimum fish size; establish an offshore monkfish fishery program; modify the limited access permit qualification criteria for vessels fishing in the southernmost range of the fishery; minimize the fishery impacts on essential fish habitat and deep-sea coral areas; establish DAS incentives for vessels engaging in cooperative research; create a monkfish trawl experimental fishery in the Gulf of Maine; modify the framework adjustment procedure to enable the Councils to take action under the procedure to minimize fishery interaction with protected species and require bycatch reduction devices at a future time through abbreviated rulemaking; exempt vessels fishing outside of the EEZ from the FMP regulations; and clarify the vessel permit upgrading baseline conditions. The Councils will consider all comments received on these proposals until the end of the comment period on July 28, 2004.

Meeting Dates, Times, and Locations

The Councils will discuss and take scoping comments at public meetings as follows:

Tuesday, June 15, 2004 at 6 p.m. - Inn at East Wind, 5720 Route 25A, Wading River, NY 11792; telephone: (631) 929-3500

Wednesday, June 16, 2004 at 6 p.m. - Ramada Inn Toms River, 2373 Route 9, Toms River, NJ 08755; telephone: (732) 905-2626

Thursday, June 17, 2004 at 7 p.m. - Roanoke Island Festival Park, 1 Festival Park, Manteo, NC 27954; telephone: (252) 475-1500

Tuesday, June 22, 2004 at 6 p.m. - Holiday Inn Express, 110 Middle Street, Fairhaven, MA 02719; telephone: (508) 997-1281

Wednesday, June 23, 2004 at 6 p.m. - Holiday Inn, Peabody, One Newbury St., Route 1 North, MA, 01960; (978) 535-4600

Thursday, June 24, 2004 at 7 p.m. - DoubleTree Hotel, 1230 Congress Street, Portland, ME, 04102; (207) 774-5611.

Special Accommodations

These hearings are physically accessible to people with disabilities. Requests for sign language interpretation or other auxiliary aids should be directed to Paul J. Howard (see ADDRESSES) at least 5 days prior to the meeting dates.

Authority: 16 U.S.C. 1801 et seq.

Dated: May 25, 2004.
Alan D. Risenhoover,
Acting Director, Office of Sustainable Fisheries, National Marine Fisheries Service.

[FR Doc. E4-1223 Filed 5-27-04; 8:45 am]

BILLING CODE 3510-22-S